DEPARTMENT OF ENERGY

Federal Energy Regulatory Commission

[Docket No. ER01-2091-000; Docket No. NJ01-7-000]

El Paso Electric Company, Public Service Company of New Mexico, Arizona Public Service Company; Salt River Project Agricultural Improvement and Power District; Notice of Filing

June 29, 2001.

Take notice that on June 28, 2001, Salt River Project Agricultural Improvement and Power District (SRP), El Paso Electric Company (EPE), Public Service Company of New Mexico (PNM), Arizona Public Service Company (APS), (collectively, Palo Verde Participants), Pinnacle West Energy Corporation (PWE), Harquahala Generating Company, LLC (HGC), Duke Energy Maricopa, LLC (DEM) and Mesquite Power, LLC (Mesquite) (all entities collectively, the Parties), tendered for filing with the Federal Energy Regulatory Commission (Commission) a Joint Stipulation Concerning the Common Bus Arrangement at the Palo Verde and Hassayampa Switchyards, pursuant to the Commission's Rule 212 (18 CFR 385.212).

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 10, 2001. Protests will be considered by the Commission to determine the appropriate action to be taken, but will not serve to make protestants parties to the proceedings. Any person wishing to become a party must file a motion to intervene. Copies of this filing are on file with the Commission and are available for public inspection. This filing may be viewed on the web at http://www.ferc.gov using the “RIMS” link, select “Docket #” from the RIMS Menu and follow the instructions (please call (202) 208-2222 for assistance). Comments, protest and interventions may be filed electronically via the internet in lieu of paper. See, 18 CFR 385.2001(a)(1)(iii) and the instructions on the Commission's web site at http://www.ferc.gov under the link to the User's Guide. If you have not yet established an account, you will need to create a new account by clicking on “Login to File” and then “New User Account.”

David P. Boergers,
Secretary.

[FR Doc. 01-16931 Filed 7-5-01; 8:45 am]

BILLING CODE 6717-01-M